DEPARTMENT OF HOUSING AND URBAN DEVELOPMENT

[Docket No. FR-5600-FA-05]

Announcement of Funding Awards for the Self-Help Homeownership Opportunity Program (SHOP) for Fiscal Year 2012

AGENCY: Office of Community Planning and Development, HUD.

ACTION: Announcement of funding awards.

SUMMARY: In accordance with Section 102(a)(4)(C) of the Department of Housing and Urban Development Reform Act of 1989, this announcement notifies the public of funding decisions made by the Department in a competition for funding under the Fiscal Year 2012 (FY 2012) Notice of Funding Availability (NOFA) for the Self-Help Homeownership Opportunity Program (SHOP). This announcement contains the consolidated names and addresses of this year's award recipients under SHOP.

FOR FURTHER INFORMATION CONTACT: For questions concerning SHOP Program awards, contact Ginger Macomber, SHOP Program Manager, Office of Affordable Housing Programs, U.S. Department of Housing and Urban Development, 451 Seventh Street SW., Washington, DC 20410-4500, telephone (202) 402-4605. Hearing or speech-impaired individuals may access this number via TTY by calling the toll-free Federal Information Service at (800) 877-8339.

SUPPLEMENTARY INFORMATION: The SHOP program provides federal grants on a competitive basis to national and regional nonprofit organizations and consortia to undertake self-help homeownership housing programs. Grantees may carry out SHOP activities directly and/or distribute SHOP funds to local nonprofit affiliates. The SHOP grants must be used to purchase land and make necessary infrastructure improvements, which may not exceed $15,000 per unit. Leveraged funds must be used for the construction or rehabilitation of the SHOP units.

Low-income homebuyers must contribute their sweat equity to the construction of their homes and/or the homes of other homebuyers. Reasonable accommodations are made for homebuyers with disabilities. Sweat equity involves participation in the construction of the housing, which can include, but is not limited to, assisting in the painting, carpentry, trim work, drywall, roofing, and siding for the housing. Labor is also contributed by community volunteers. The SHOP funds together with the homebuyer's sweat equity and volunteer labor contributions significantly reduce the cost of the housing for the low-income homebuyers.

The FY 2012 awards announced in this Notice were selected for funding in the FY 2012 SHOP competition posted on the grants.gov Web site. Applications were scored and selected for funding based on the selection criteria in the General Section and the SHOP program section. The amount appropriated in FY 2012 to fund the SHOP grants was $13,500,000. The allocations for SHOP grantees are as follows:

Community Frameworks, 409 Pacific Avenue Suite 105, Bremerton, WA 98337 | $1,905,750
Habitat for Humanity International, 121 Habitat Street, Americus, GA 31709 | 6,693,040
Housing Assistance Council, 1025 Vermont Avenue Suite 606, Washington, DC 20005 | 4,247,550
Tierra del Sol Housing Corporation, Western States Housing Consortium, P.O. Box 2626, 880 Anthony Drive, Anthony, NM 88021 | 653,660
Total | 13,500,000

These non-profit organizations propose to distribute SHOP funds to several hundred local affiliates and consortium members that will acquire and prepare the land for construction, provide homebuyer counseling, select homebuyers, coordinate the homebuyer sweat equity and volunteer labor efforts, and assist in the arrangement of interim and permanent financing.

Dated: June 19, 2012.
Mark Johnston,
Assistant Secretary for Community Planning and Development (Acting).

[FR Doc. 2012-16902 Filed 7-10-12; 8:45 am]

BILLING CODE 4210-67-P